NUCLEAR REGULATORY COMMISSION

[NRC-2022-0001]

Sunshine Act Meetings

TIME AND DATE: Weeks of March 28, April 4, 11, 18, 25, May 2, 2022. All listed meeting times are local to the meeting location.

PLACE: Multiple (See Additional Information Below).

STATUS: Public.

Week of March 28, 2022

Thursday, March 31, 2022

9:00 a.m.—Joint Meeting of the Federal Energy Regulatory Commission (FERC) and the Nuclear Regulatory Commission (NRC) (Public Meeting) (Contact: Sergiu Basturescu: 301-415-1237)

Additional Information: The public is invited to attend the Commission's meeting live by webcast at the Web address— https://video.nrc.gov/.

Week of April 4, 2022—Tentative

There are no meetings scheduled for the week of April 4, 2022.

Week of April 11, 2022—Tentative

There are no meetings scheduled for the week of April 11, 2022.

Week of April 18, 2022—Tentative

Friday, April 22, 2022

2:30 p.m.—Meeting with the Navajo Tribal Community Members of the Red Water Pond Road (Public Meeting) (Contact: Wesley Held: 301-287-3591)

Additional Information: The meeting will be held at the Red Water Pond Road Cha'a'oh (“Shade House”), New Mexico. The GPS coordinates for the meeting location are 35.68485338436599, -108.5433161361636. From Church Rock on State Route 566, head northeast for eleven miles. After driving past mile marker eleven and Pipeline Road, the road bends to the left. Shortly after, you will soon see the Red Water Pond Road sign. Take a right hand turn off State Route 566 onto Red Water Pond Road, which is an all-dirt road. The meeting location is about a quarter mile on the right.

6:00 p.m.—Discussion of the Ten-Year Plan to Address Impacts of Uranium Contamination on the Navajo Nation and Lessons Learned from the Remediation of Former Uranium Mill Sites (Public Meeting) (Contact: Wesley Held: 301-287-3591)

Additional Information: The meeting will be held at the Hilton Garden Inn, 1530 W Maloney Ave, Gallup, New Mexico. The public is invited to attend the Commission's meeting live by webcast at the Web address— https://video.nrc.gov/.

Week of April 25, 2022—Tentative

There are no meetings scheduled for the week of April 25, 2022.

Week of May 2, 2022—Tentative

There are no meetings scheduled for the week of May 2, 2022.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Wendy.Moore@nrc.gov or Betty.Thweatt@nrc.gov.

The NRC is holding the meetings under the authority of the Government in the Sunshine Act, 5 U.S.C. 552b.

Dated: March 24, 2022.
For the Nuclear Regulatory Commission.
Wesley W. Held,
Policy Coordinator, Office of the Secretary.

[FR Doc. 2022-06564 Filed 3-24-22; 11:15 am]

BILLING CODE 7590-01-P